DEPARTMENT OF THE TREASURY

Internal Revenue Service

Open Meeting of the Taxpayer Advocacy Panel Language Services Issue Committee

AGENCY: Internal Revenue Service (IRS) Treasury.

ACTION: Notice of meeting.

SUMMARY: An open meeting of the Taxpayer Advocacy Panel Language Services Issue Committee will be conducted. The Taxpayer Advocacy Panel is soliciting public comment, ideas, and suggestions on improving customer service at the Internal Revenue Service.

DATES: The meeting will be held Thursday, February 12, 2009.

FOR FURTHER INFORMATION CONTACT: Marisa Knispel at 1-888-912-1227 or (718) 488-3557.

SUPPLEMENTARY INFORMATION: Notice is hereby given pursuant to section 10(a)(2) of the Federal Advisory Committee Act, 5 U.S.C. App. (1988) that a meeting of the Taxpayer Advocacy Panel Language Services Issue Committee will be held Thursday, February 12, 2009, at 2 p.m. Eastern Time. You can submit written comments to the panel by faxing to (718) 488-2062, or by mail to Taxpayer Advocacy Panel, 10 Metro Tech Center, 625 Fulton Street, Brooklyn, NY, 11201, or you can contact us at http://www.improveirs.org. Public comments will also be welcome during the meeting. Please contact Marisa Knispel at 1-888-912-1227 or (718) 488-3557 for additional information.

The agenda will include the following: Various IRS Issues.

Dated: December 22, 2008.
Roy L. Block,
Acting Director, Taxpayer Advocacy Panel.

[FR Doc. E9-164 Filed 1-8-09; 8:45 am]

BILLING CODE 4830-01-P